DEPARTMENT OF AGRICULTURE

Office of the Secretary

Privacy Act: Revision of an Existing System of Records

AGENCY: Office of the Secretary, USDA.

ACTION: Notice of revision of an existing system of records.

SUMMARY: The U.S. Department of Agriculture is giving notice of a revision to its Privacy Act System of Records entitled Claims Against Food Stamp Recipients—USDA/FNS-3.

DATES: This revision will become effective on May 14, 2004, unless modified by a subsequent notice to incorporate comments received from the public. To be assured of consideration, comments must be received by the contact person listed below on or before April 29, 2004.

ADDRESSES: Comments should be addressed to Barbara Hallman, Chief, State Administration Branch, Program Accountability Division, Food Stamp Program, 3101 Park Center Drive, Room 820, Alexandria, Virginia 22302.

FOR FURTHER INFORMATION CONTACT: Sara Bradshaw, Food and Nutrition Service (FNS) Privacy Act Officer, Room 322, 3101 Park Center Drive, Alexandria, Virginia 22302. Telephone (703) 305-2244.

SUPPLEMENTARY INFORMATION: The Privacy Act requires FNS to publish this Privacy Act systems of records of notice to inform the public that certain changes are being made to a system of records containing information on individuals against whom fiscal claims have been established under the Food Stamp Program and to request public comment.

Monetary claims are established against food stamp recipients and former recipients who owe debts due to certain errors or infractions of Food Stamp Program rules. State and Federal government offices seek collections for these debts through recoupment of benefits for recipients still receiving benefits, direct billing to non-recipients, offset of eligible Federal payments, and other means. Debt collection and tracking systems were established to accomplish these collections, and the establishment of and certain changes to such systems require notification to the public under the Privacy Act.

The Treasury Offset Program (TOP) is a mandatory governmentwide delinquent debt matching and payment offset system, centralized in the Department of the Treasury. The Debt Collection Act of 1982, as amended (Pub. L. 97-365), provides statutory authority for Federal agencies to collect debts through administrative offset.

The Debt Collection Improvement Act of 1996 (Pub. L. 104-134) expands the statutory authority for TOP by requiring agencies to transfer delinquent non-tax debt to Treasury for the purpose of offsetting Federal payments to collect delinquent debts owed to the Federal Government. TOP operates in accordance with statutory and regulatory authorities, including those contained in 31 U.S.C. 3716, 3720A, 3701, and 26 U.S.C. 6402(d).

This Notice modifies the system of records entitled Claims Against Food Stamp Recipients—USDA/FNS—3 so that FNS can fully comply with Treasury requirements for various debt collection actions. This notice modifies the systems of records as follows:

Changes to the current use consist of:

• Deleting the referral to Treasury designated collection centers as Food Stamp Program recipient claims are exempt from cross servicing;

• Expanding the use of Federal payroll servicing agencies as match sources in the area of salary offset; and

• No longer submitting debt directly to the United States Postal Service (USPS) for salary offset.

New uses included in this notice are:

• Using the Federal payroll servicing agencies to identify Federal employees and collect debts;

• Referring debtor information to information brokers for locating debtors; and

• Collecting data from Social Security Administration death records.

Data will continue to be shared with the following entities; the Department of the Treasury for the purpose of complying with Treasury requirements for various debt collection actions; State agencies for such purpose as updating claims files, collecting claims, and fiscal reporting; and Congressional offices in response to an inquiry from the Congressional office made at the request of the individual against whom the claim has been established.

FNS has included some technical changes that do not affect the operation of the system. The notice is modified to reflect a change in room number for FNS Grants Management Division. In addition the system of records is modified to retain records for a longer period, 5 years, as required by the Department of the Treasury. Records will now be retrievable by case number or debt number now that the format for submission to TOP requires that data.

Dated: March 23, 2004.
Ann M. Veneman,
Secretary of Agriculture.

SYSTEM NAME:

Claims Against Food Stamp Recipients—USDA/FNS-3

SECURITY CLASSIFICATION:

None.

SYSTEM LOCATION:

Grants Management Division, Food and Nutrition Service (FNS), United States Department of Agriculture, 3101 Park Center Drive, Room 744, Alexandria, Virginia 22302, and FNS Regional Offices located in: Atlanta, Georgia, which covers the States of Alabama, Florida, Georgia, Kentucky, Mississippi, North Carolina, South Carolina, and Tennessee; Boston, Massachusetts, which covers the States of Connecticut, Massachusetts, Maine, New Hampshire, New York, Rhode Island, and Vermont; Chicago, Illinois, which covers the States of Illinois, Michigan, Minnesota, Ohio, and Wisconsin; Dallas Texas, which covers the States of Arkansas, Louisiana, New Mexico, Oklahoma, and Texas; Denver, Colorado, which covers the States of Colorado, Iowa, Kansas, Missouri, Montana, Nebraska, North Dakota, South Dakota, Utah, and Wyoming; Trenton, New Jersey, which covers the States of Delaware, District of Columbia, Maryland, New Jersey, Pennsylvania, Puerto Rico, Virginia, Virgin Islands, and West Virginia; and San Francisco, California, which covers the States of Alaska, Arizona, California, Guam, Hawaii, Idaho, Nevada, Oregon, American Samoa, Trust Territories of the Pacific, and Washington. The address of each regional office is listed in the telephone directory of the respective cities listed above under the heading of “United States Government, Department of Agriculture, Food and Nutrition Service.”

CATEGORIES OF INDIVIDUALS COVERED BY THE SYSTEM:

Individuals who have received food stamp benefits to which they are not entitled.

CATEGORIES OF RECORDS IN THE SYSTEM:

The information in the system consists of individuals' names, addresses, social security numbers and amounts of claims and amounts of any collections. The information in the system also includes identification of individuals' as Federal employees and Federal payments offset. The system includes limited information about claims such as age, reasons for the overissuance of benefits, and State agency collection efforts. The system may also include information from the Social Security Administration death records.

Authority for Maintenance of the System:

7 U.S.C. 2011-2031.

Purpose:

The purpose of this system of records is to facilitate the collection of delinquent food stamp recipient debts.

ROUTINE USES OF RECORDS MAINTAINED IN THE SYSTEM, INCLUDING CATEGORIES OF USERS AND THE PURPOSES OF SUCH USES:

(1) Referral to the Department of the Treasury (Treasury) for debt collection actions. (2) Referral to the Federal payroll servicing agencies for identification and collection of overpayments. (3) Referral may be made to State agencies for such purposes as updating claims files, collecting claims, and for fiscal reporting. (4) Disclosure may be made to a Congressional office from the record of an individual in response to an inquiry from the Congressional office made at the written request of the individual. (5) Referral to private information brokers to obtain current addresses for due process notification purposes and deceased records.

Policies and Practices for Storing, Retrieving, Accessing, Retaining, and Disposing of Records in the System

Storage:

Records are maintained by automated data storage methods such as CD-ROM, magnetic tape and disk. Some records may also be maintained on paper.

Retrievability:

Records are retrievable by name and social security number. In addition, records may be retrieved by a State assigned case number or debt number.

Safeguards:

Access to records is limited to those persons who process the records for the specific routine uses stated above. Records in such forms as magnetic tape or CD-ROM are kept in physically secured rooms and/or cabinets. Various methods of computer security limit access to records in automated databases. Paper records that contain taxpayer information will be segregated and physically secured in locked cabinets.

Retention and Disposal:

The FNS retains for no longer than 5 years. All records are either returned to State agencies or destroyed.

System Manager(S) and ADDRESS:

The system manager is the Director of the Grants Management Division, Food and Nutrition Service, United States Department of Agriculture, 3101 Park Center Drive, Room 744, Alexandria, Virginia 22302.

NOTIFICATION PROCEDURE:

Individuals may request from the system manager identified in the preceding paragraph information regarding this system of records or whether the system contains records pertaining to them. Individuals requesting such information must provide their name, address and social security number.

RECORD ACCESS PROCEDURES:

Individuals may obtain information about records in the system that pertain to them by written or oral requests to the system manager. To assure confidentiality and prompt routing, written requests should be marked “Privacy Act Request.”

CONTESTING RECORD PROCEDURES:

Individuals desiring to contest or amend information maintained in the system should direct requests to the system manager, state the reasons for contesting the information and provide any available documentation to support the requested action.

RECORD SOURCE CATEGORIES:

Information in this system comes from State agency files concerning food stamp recipient claims, and Internal Revenue Service files of addresses of individuals who have filed income tax returns. Address information and Social Security Administration death records come from a private information broker. Information in the system also comes from the Federal payroll servicing agencies files of individuals who are currently employed by or who are receiving salaries, pensions and other payments from Federal agencies and the USPS, and from all other sources of Federal payments.

EXEMPTIONS CLAIMED FOR THE SYSTEM:

None.

[FR Doc. 04-6888 Filed 3-29-04; 8:45 am]

BILLING CODE 3410-30-M